DEPARTMENT OF TRANSPORTATION

Federal Aviation Administration

14 CFR Part 97

[Docket No. 30149; Amdt. No. 2004]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is a follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW, Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility act.

List of Subjects in 14 CFR Part 97

Air Traffic Control, Airports, Navigation (Air).

Issued in Washington, DC on August 4, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33 and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.22 RNAV SIAPs; and § 97.35 COPTER SIAPs, identified as follows:

* * *Effective Upon Publication

FDC date | State | City | Airport | FDC N. | SIAP
07/02/00 | LA | Oakdale | Allen Parish | FDC 0/8721 | NDB Rwy 35, orig...
07/20/00 | CA | Los Angeles | Los Angeles Intl | FDC 0/7997 | VOR or TACAN or GPS RWY 7L/R Amdt 18...
07/20/00 | IL | Chicago/Prospect Hgts/Wheeling | Palwaukee Muni | FDC 0/8029 | VOR Rwy 16, Orig...
07/20/00 | ME | Bangor | Bangor Intl | FDC 0/7996 | NDB Rwy 33 Amdt 5B...
07/20/00 | NC | Salisbury | Rowan County | FDC 0/8004 | ILS Rwy 20, Orig-A...
07/20/00 | VA | Richmond/Ashland | Hanover County Muni | FDC 0/8027 | VOR RWY, 16 ORIG-C This replaces 0/7970 Intl 00-17...
07/21/00 | LA | Lake Charles | Lake Charles Regional | FDC 0/8078 | ILS Rwy 15, Amdt 19A...
07/21/00 | LA | Lake Charles | Lake Charles Regional | FDC 0/8079 | Radar-1, Amdt 4...
07/21/00 | WI | Madison | Dane County Regional—Trual Field | FDC 0/8083 | ILS Rwy 36, Amdt 29C...
07/24/00 | TX | Tyler | Tyler Pounds Field | FDC 0/8229 | GPS Rwy 31, Orig-A...
07/24/00 | TX | Tyler | Tyler Pounds Field | FDC 0/8230 | VOR/DME or GPS Rwy 4, Amdt 3A...
07/24/00 | TX | Tyler | Tyler Pounds Field | FDC 0/8231 | NDB or GPS Rwy 13, Amdt 17B...
07/24/00 | TX | Tyler | Tyler Pounds Field | FDC 0/8232 | VOR/DME or GPS Rwy 22, Amdt 3A...
07/24/00 | TX | Tyler | Tyler Pounds Field | FDC 0/8234 | VOR Rwy 31, Amdt 1A...
07/25/00 | OK | El Reno | El Reno Muni Air Park | FDC 0/8285 | NDR Rwy 35, Amdt 3A...
07/25/00 | OK | Oklahoma City | Sundance Airpark | FDC 0/8288 | VOR Rwy 17, Orig...
07/25/00 | OK | Oklahoma City | Sundance Airpark | FDC 0/8289 | LOC Rwy 17, Orig...
07/25/00 | OK | Oklahoma City | Will Rogers World | FDC 0/8286 | NDB Rwy 17R, Amdt 24...
07/25/00 | OK | Oklahoma City | Will Rogers World | FDC 0/8287 | ILS Rwy 17R, Amdt 9B...
07/26/00 | LA | New Roads | False River Airpark | FDC 0/8362 | NDB or GPS Rwy 36, Amdt 1...
07/26/00 | LA | New Roads | False River Airpark | FDC 0/8363 | VOR/DME or GPS-A, Amdt 3...
07/26/00 | LA | New roads | False River Airpark | FDC 0/8364 | LOC Rwy 36, Orig-A...
07/26/00 | NC | Burlington | Burlington—Alamance Regional | FDC 0/8348 | GPS Rwy 24 Amdt 1...
07/26/00 | NC | Burlington | Burlington—Alamance Regional | FDC 0/8349 | GPS Rwy 6 Amdt 1...
07/26/00 | NC | Burlington | Burlington—Alamance Regional | FDC 0/8350 | LOC Rwy 6 Amdt 2...
07/26/00 | OK | Norman | University of Oklahoma Westheimer | FDC 0/8292 | LOC Rwy 3, Amdt 3A...
07/26/00 | SC | North Myrtle Beach | North Myrtle Beach/Grand Strad | FDC 0/8365 | VOR Rwy 23 Amdt 19B...
07/26/00 | VA | Richmond/Ashland | Hanover County Muni | FDC 0/8276 | GPS Rwy 16, Amdt 1...
07/27/00 | AR | Walnut Ridge | Walnut Ridge Regional | FDC 0/8446 | GPS Rwy 35, Orig...
07/27/00 | AR | Walnut Ridge | Walnut Ridge Regional | FDC 0/8447 | GPS Rwy 17, Orig...
07/27/00 | AR | Walnut Ridge | Walnut Ridge Regional | FDC 0/8464 | LOC Rwy 17, Amdt 2C...
07/27/00 | AR | Walnut Ridge | Walnut Ridge Regional | FDC 0/8465 | NDB Rwy 17, Amdt 3B...
07/27/00 | AZ | Casa Grande | Casa Grande Muni | FDC 0/8448 | ILS/DME Rwy 5 Amdt 6A...
07/28/00 | DC | Washington | Washington Dulles Intl | FDC 0/8531 | VOR/DME OR TACAN Rwy 12 Amdt 8...
07/28/00 | DC | Washington | Washington Dulles Intl | FDC 0/8532 | ILS Rwy 12 Amdt 6B...
07/28/00 | GA | Covington | Covington Muni | FDC 0/8500 | NDB Rwy 28 Amdt 1...
07/28/00 | GA | Covington | Covington Muni | FDC 0/8501 | GPS Rwy 28 Orig...
07/28/00 | GA | Covington | Covington Muni | FDC 0/8502 | VOR/DME or GPS Rwy 10 Amdt 3...
07/28/00 | OH | Cincinnati | Cincinnati Muni Airport—Lunken Field | FDC 0/8518 | LOC BC Rwy 3R, Amdt 8A...
07/31/00 | CT | Hartford | Hartford-Brainard | FDC 0/8659 | LDA Rwy 2 Amdt 1C...
07/31/00 | LA | Shreveport | Shreveport Regional | FDC 0/8620 | ILS RWY 14, AMDT 23A...
07/31/00 | LA | Shreveport | Shreveport Regional | FDC 0/8621 | Radar-1, Amdt 3...
07/31/00 | LA | Shreveport | Shreveport Regional | FDC 0/8641 | LOC Rwy 5, Amdt 1...
07/31/20 | WA | Everett | Snohomish County (Paine Field) | FDC 0/8614 | ILS Rwy 16R, Amdt 18B...
08/01/00 | CT | Windsor Locks | Bradley Intl | FDC 0/8696 | VOR or Tacan Rwy 24 Orig This replaces 0/7901 Intl 00-17...
08/01/00 | MO | Rolla/Vichy | Rolla National | FDC 0/8709 | VOR/DME RNAV or GPS Rwy 22, Amdt 2B...
08/01/00 | MO | Rolla/Vichy | Rolla National | FDC 0/8724 | VOR/DME Rwy 4, Amdt 2B...
08/01/00 | MO | Rolla/Vichy | Rolla National | FDC 0/8726 | VOR Rwy 22, Amdt 7B...
08/01/00 | MT | Dillon | Dillon | FDC 0/8713 | VOR/DME or GPS-B, Amdt 1...
08/01/00 | MT | West Yellowstone | Yellowstone | FDC 0/8692 | NDB or GPS Rwy 1, Amdt 3A...
08/01/00 | MT | West Yellowstone | Yellowstone | FDC 0/8693 | ILS Rwy 1, Amdt 3A...

[FR Doc. 00-20276 Filed 8-9-00; 8:45 am]

BILLING CODE 4910-13-M